DEPARTMENT OF AGRICULTURE

Forest Service

Bend/Ft. Rock Ranger District; Deschutes National Forest; Deschutes County, Oregon; Mt. Bachelor Ski Area Improvements Project EIS

AGENCY: Forest Service, USDA.

ACTION: Notice of intent to prepare an environmental impact statement.

SUMMARY: The USDA, Forest Service, will prepare an environmental impact statement (EIS) on a proposed action comprising a number of infrastructural improvements at Mt. Bachelor ski resort, 22 miles southwest of Bend, Oregon. The resort lies entirely on National Forest System land and has operated under a ski area special use permit (SUP) issued by the Deschutes National Forest (DNF) since 1958. The permit area is 8,122 acres.

The projects include on-mountain improvements such as development of a new chairlift and associated trails, shortening and/or replacement of three existing lifts, expanding snowmaking coverage, construction of a lift-served, downhill mountain bike park, and adding to the Nordic trail system. Improvements to base area facilities are also proposed, including expansion of two existing lodges, construction of a new lodge, construction of a race training center, removal and/or relocation of inappropriately sited and outdated facilities, expansion of parking lots, and installation of associated infrastructure.

The EIS will address the Proposed Action and the required No-Action Alternative, as well as any other alternatives identified through public scoping or internal, interdisciplinary review. The EIS process will include a number of opportunities for involvement and input from the public as well as interested organizations and agencies.

Public Scoping. This notice initiates the EIS process and provides notice of the first opportunity for public involvement, the scoping period. Comments regarding the scope of the EIS (i.e., the actions, alternatives, and impacts it addresses) are invited. Comments should be as specific as possible. More information on the Proposed Action and instructions for submitting scoping comments are provided below.

Comments received in response to this notice, including names and addresses of those who comment, will be considered part of the public record for this project and will be available for public inspection.

This is also an opportunity to participate in the National Historic Preservation Act, Section 106 process.

DATES: Comments concerning the scope of the analysis must be received by 30 days following the date that this notice appears in the Federal Register.

ADDRESSES: Send written comments to Shane Jeffries, District Ranger, Bend-Fort Rock Ranger District, Red Oaks Square, 1230 NE Third Street Suite A-262, Bend, Oregon 97701. Comments may also be faxed to (541) 383-4700, sent electronically to comments-pacificnorthwest-deschutes-bend-ftrock@fsled.us, or hand delivered to 1230 NE Third Street, Suite A-262, Bend, OR, between 7:45 a.m. and 4:30 p.m., Monday through Friday, excluding holidays.

FOR FURTHER INFORMATION CONTACT: Amy Tinderholt, Recreation Team Leader, Bend-Fort Rock Ranger District, Red Oaks Square, 1230 NE Third Street Suite A-262, Bend, Oregon 97701, phone (541) 383-4708.

RESPONSIBLE OFFICIAL: The responsible official is John Allen, Forest Supervisor, Deschutes National Forest, 1001 SW Emkay Dr., Bend, OR 97701. He will decide whether and under what conditions to approve the Proposed Action or an alternative addressed in the EIS.

SUPPLEMENTARY INFORMATION: Background. Under the terms of the Ski Area Permit Act of 1986, development and operation of ski areas on National Forest System lands is guided by master development plans which describe existing conditions, identify physical, environmental, and socio-economic opportunities and constraints, establish the permittee's conceptual vision for the ski area, and outline near-to-long-term plans for achieving that vision. As a condition of SUP issuance, the Forest Service must review and accept a ski area's MDP. One component of an MDP is development of the ski area's physical infrastructure, some or all of which may lie on National Forest System land and thus require agency approval. When development plans move from the conceptual to the concrete realm, the permittee submits a proposal to the Forest Service describing specific projects, and the agency makes a determination whether to accept the proposal and initiate their decision-making process. If the proposal has the potential to significantly impact the human environment, the agency must analyze and disclose those environmental impacts, in accordance with the National Environmental Policy Act of 1969 (NEPA).

Mt. Bachelor's current MDP was accepted by the DNF in January 2011. The MDP documents analysis of current conditions at the resort and, based on that analysis, outlines anticipated development and management of the resort over the next 10 years. As the resort operates entirely on National Forest System land, all the proposed infrastructural improvement projects included in the plan require Forest Service approval prior to implementation. These projects have the potential to impact the human environment, so they constitute the Proposed Action subject to review in this EIS.

Purpose and Need. The purpose and need for action reflects the difference between existing conditions at Mt. Bachelor and desired conditions. The overarching purpose for this Proposed Action is to implement direction in the Land and Resource Plan, Deschutes National Forest (Forest LRMP); specifically the Proposed Action would assist in “Providing a wide variety of recreational opportunities within a forest environment where the localized settings may be modified to accommodate large number of visitors” (Forest LRMP p. IV-135). In order to achieve that purpose, the Proposed Action addresses the following needs.

1. To improve the skiing experience during windy conditions. Wind causes routine closure of the high-elevation lift and frequent closure of the northwest-facing chairlifts at Mt. Bachelor. These closures significantly reduce the available terrain at Mt. Bachelor on windy days, resulting in increased skier densities on the remaining pods. Development of the proposed Eastside pod addresses this need.

2. To balance the capacities and utilization of resort facilities. The existing Rainbow chairlift is underutilized by beginner and low-intermediate skiers due primarily to its lengthy ride time. It is also one of the oldest lifts on the mountain. In contrast, the adjacent Sunrise Express chairlift is over-utilized on busy days, resulting in excessive lift lines and less even distribution of skiers. A better balance in the utilization of these two chairlifts is needed to efficiently access the terrain they serve. Shortening the Rainbow lift alignment, installing the current Sunrise Express detachable quad lift in that shortened alignment, and replacing Sunrise Express with a higher-capacity detachable six-pack chairlift address this need.

The Sunrise Lodge is frequently overcrowded, even on off-peak days. A better balance between the lodge's capacity and demand for the services it provides is needed to improve the overall recreational experience available from the Sunrise base area. Proposed improvements to the Sunrise base area skier services address this need.

The Sunrise parking lot fills before the other parking lots because it is the first entrance to the resort and it is located on the more wind-protected east side of the mountain. Additional parking is needed at the Sunrise base area to maintain a balance with the lodge, lift, and trail capacity and to accommodate parking demand. The proposed parking lot expansion and access improvements address this need.

The West Village parking lot provides parking for skiers, tubers, Nordic skiers, skier-services customers, sight-seers, and employees, and it fills to capacity on busy days. Additional capacity is needed to balance with peak demand for parking space. The proposed employee and overflow parking lot at West Village address this need.

Bob's Bungalow, a warming hut on the Nordic trail network, is currently undersized and in need of repair, resulting in crowded, less than comfortable conditions at times. Additional space and refurbishing are needed to meet current demand. Proposed improvements to the warming hut address this need.

3. To segregate user groups and ability levels. Alpine races and race training take place on the busiest part of the mountain. Racers must mix with other skiers of varying ability levels, which detracts from both training effectiveness and the enjoyment of the recreational skiers. These activities need to be separated in the interest of both. This need is addressed by the proposed construction of an Alpine Training Center with dedicated training terrain accessed by a shortened Red Chair lift.

The Nordic Center does not provide beginner terrain in the vicinity of the Nordic lodge, and lower ability level skiers have to navigate a more difficult trail to access low-gradient terrain. An easily accessible learning area and a suitable trail for lower level skiers to access the trail network would increase accessibility and use of this unique Nordic skiing opportunity. The proposed learning area and two new Nordic trails address this need.

The tubing area is currently located on a low, inconsistent slope with a short run-out. A site away from the congested skier base area, with a more suitable slope gradient and run-out, would provide an improved recreational experience for skiers and tubers alike. The proposed relocation of the tubing hill and support infrastructure to the other side of the West Village parking lot addresses this need.

4. To update outdated resort facilities and infrastructure. The existing ski patrol, clinic, and administration building is undersized and outdated. Updated facilities are needed to serve these critical functions. Removal of this building and expansion of remaining structures to better support these functions, as proposed, addresses this need.

The existing generator/electrical/telephone/data building is unsightly and outdated, and it is inappropriately located within view of the West Village base and adjacent ski terrain. A more aesthetically appropriate building for these utilities in an area that is further separated from the ski terrain is needed to provide these services. Removal of this building and developing new utilities infrastructure at a less central location, as proposed, addresses this need.

Mt. Bachelor currently generates emergency power with diesel generators. Heat is provided using propane. Together, these facilities require substantial investment in and storage of fuel. A more cost-efficient, environmentally compatible power and heat generation facility would better meet these needs. The proposed biomass co-generation facility addresses this need, as well as providing an attractive option for utilization of wood products from forest management projects and associated economic benefits.

5. To maintain adequate snow coverage in specific high-traffic areas. Early-season snow coverage is often inadequate on several key trails on the central part of the ski mountain. Improved snow coverage is needed to alleviate these deficiencies. The proposed expansion of the existing snowmaking system addresses this need.

6. To provide additional summer recreational opportunities. The resort currently has only one dedicated hiking trail and one mountain bike trail, located in the base and Nordic areas. Increased hiking and biking infrastructure is needed to meet demand, increase year-round utilization of resort resources and infrastructure, and to provide downhill mountain biking opportunities on the Forest. The proposed hiking trails, mountain bike park, interpretive areas, zipline course, and rock climbing structure address this need.

Proposed Action. The Proposed Action can be summarized as follows:

Eastside Pod:

• Developing the new Eastside Express chairlift and associated trails. The lift would be a detachable-grip, quadruple lift about 6,800 feet long with a capacity of 2,400 persons per hour (pph).

• Constructing a new catchline at a lower elevation and selective thinning above the new catchline.

Sunrise Area:

• Replacing the Rainbow lift in a shortened alignment. The alignment would be shortened by about 40 percent to 3,150 feet. The current Sunshine Express lift, a detachable quad with a capacity of 1,800 pph, would replace the existing fixed-grip lift.

• Replacing the Sunshine Express lift, a detachable quad rated at 1,800 pph, with a new detachable six-place lift with a capacity of 2,800 pph.

• Developing the Sunrise Learning Center, the venue for the resort's children's ski school program, that would include dedicated space in the remodeled Sunrise Lodge, carpet lifts on adjacent “bunny hills,” and a forested kids “adventure zone.”

• Improving Sunrise base area skier services, including a new 18,000 to 25,000 square foot lodge and a 115 percent expansion of the parking lot with a new access road.

• Constructing a 125,000-gallon buried water reservoir to provide adequate storage for the new lodge and associated facilities.

• Doubling the capacity of the existing Sunrise base area wastewater treatment system, particularly the drain field.

• Installing a restroom facility near the base of Skyliner Express.

West Village Area:

• Shortening the Red Chair by roughly 25 percent to 3,000 feet, and constructing the Alpine Training Center to house the resort's alpine racing program.

• Adding 25.4 acres to the resort's snowmaking coverage by expanding the existing snowmaking system onto five adjacent ski trails.

• Removing outdated West Village buildings (the ski patrol/administration building and the generator building) and expanding the West Village Lodge by about 7,000 square feet.

• Moving the tubing hill across the parking lot to the “Old Maid” area.

• Developing a new 2.5-acre employee/overflow parking lot.

• Constructing a biomass co-generation facility to provide electrical power and steam heat. It would be located near the existing maintenance building and fuel storage area.

Nordic Center:

• Making minor improvements to the Nordic Center infrastructure, including a 2-acre learning area, two new trails to access the existing trail network, and refurbishing Bob's Bungalow, including a new deck and fire pit.

Summer Activities:

• New hiking trails from Pine Marten Lodge to West Village, from the lodge to the top of Northwest Express lift, and around an interpretive loop above the lodge.

• A mountain bike park including a skills area near the base of Pine Marten Express lift and a series of beginner, intermediate, and advanced downhill trails accessed from the top of the lift.

• A canopy tour zipline course with three segments from Pine Marten Lodge down to West Village.

• A rock climbing structure at Pine Marten Lodge.

Issues. Preliminary issues include the effect of the Proposed Action on potential wilderness (the Eastside pod would be adjacent to an inventoried roadless area), special status plant and wildlife species including the northern spotted owl and several fungi, and visual quality, particularly as viewed from the Cascade Lakes Scenic Byway.

Additional Opportunities for Public Involvement. A Draft EIS will be filed with the Environmental Protection Agency (EPA) and is projected to be released for public review in March 2012. The EPA will publish a Notice of Availability (NOA) of the Draft EIS in the Federal Register, opening a 45-day period for comment on that document; the DNF will then publish a legal notice in the newspaper of record, The Bulletin in Bend, OR, announcing the date of the Federal Register notice.

The Final EIS and Record of Decision (ROD) are scheduled to be released in February 2013. The ROD will include responses to all substantive comments received on the Draft EIS. The EPA will publish a Notice of Availability (NOA) of the Final EIS in the Federal Register, and the DNF will publish a legal notice in the newspaper of record, opening a 45-day period for administrative appeal of the decision documented in the ROD (36 CFR part 215).

Dated: April 18, 2011.
Elizabeth J. Peer,
Acting District Ranger, Bend/Ft. Rock Ranger District, Deschutes National Forest.

[FR Doc. 2011-9869 Filed 4-25-11; 8:45 am]

BILLING CODE 3410-11-M